MORRIS K. UDALL AND STEWART L. UDALL FOUNDATION

Agency Information Collection Activities: Proposed Collection; New Information Requests; Comment Request; Morris K. Udall and Stewart L. Udall Foundation Application for Udall Scholarship; Application for the Udall Internship

AGENCY: Morris K. Udall and Stewart L. Udall Foundation.

ACTION: Notice.

SUMMARY: In compliance with the Paperwork Reduction Act (44 U.S.C. 3501 et seq.), this document announces that the Udall Foundation will submit for Office of Management and Budget (OMB) review a request for approval of two new information collection requests: Application for the Udall Scholarship and Application for the Udall Native American Internship.

Comments are invited on (1) whether the proposed collection of information is necessary for the performance of the functions of the agency, including whether the information has practical utility; (2) the accuracy of the agency's estimate of the time spent completing the application (“burden of the proposed collection of information”); (3) ways to enhance the quality, utility, and clarity of the information collected; (4) ways to minimize the burden of the collection of information on those who are to respond, including through the use of technology.

DATES: Comments must be submitted on or before May 28, 2015.

FOR FURTHER INFORMATION OR TO SUBMIT COMMENTS, CONTACT: Jane Curlin, Director of Education Programs, Udall Foundation, 130 South Scott Avenue, Tucson, Arizona 85701, Fax: 520-670-5530, Phone: 520-901-8565, Email: curlin@udall.gov. When submitting comments, reference this Federal Register Notice.

SUPPLEMENTARY INFORMATION:

Abstract: The Udall Foundation is an independent federal agency that was established by Congress in 1992 to provide federally funded scholarships and internships for college and/or graduate students intending to pursue careers related to the environment, as well as to American Indian students pursuing tribal public policy or health care careers. Scholarships are awarded to college sophomores and juniors demonstrating leadership, public service, and commitment to issues related to American Indian nations or to the environment. Internships provide American Indian and Alaska Native university, graduate and law students with the opportunity to gain practical experience with the federal legislative process in order to understand first-hand the government-to-government relationship between tribes and the federal government.

The proposed collections are necessary to accomplish the mandate of the Statute that the Udall Foundation should (1) conduct an annual selection process for the Udall Scholarship program to select scholars and honorable mentions (presently 50 for each); and (2) conduct an annual selection process for the Udall Internship program to select 12 interns. The applications are available from the Udall Foundation's Web site at http://www.udall.gov/News/NewsAndEvents.aspx?Item=139.

Burden Statement: Udall Scholarship.

Affected Public: (1) University students applying for the Udall Scholarship.

Frequency of Response: One time for each applicant.

Estimated Average Annual Respondents: 500 applicants.

Total Annual Hours Burden: 4,063 hours (8 hours × 500 applicants).

Estimated Cost per Student: The Udall Foundation has determined to utilize the federal minimum wage of $10.10/hour as set by Executive Order 13658, February 12, 2014. The Foundation estimates that completing the on-line application takes approximately eight (8) hours per student.

Annual Cost Burden: $40,400 annual cost burden for all 500 students.

Affected Public: (2) University faculty representatives nominating students on behalf of their college or university.

Frequency of Response: One time per applicant for each faculty representative.

Estimated Average Annual Respondents: 250 faculty representatives.

Total Annual Hours Burden: 62.5 hours (.25 hours × 250 Faculty Representatives).

Estimated Cost per Faculty Representative per Application: $24/hour based upon annual average salary of $50,000 per faculty representative. The Foundation estimates that each faculty representative needs approximately 15 minutes to endorse and forward each application.

Annual Cost Burden: $1,500 for all faculty representatives.

Total Annual Hours Burden: 4,125.5 hours (8 hours × 500 applicants plus .25 hours × 250 Faculty Representatives).

Total Annual Cost Burden: $41,900 including $40,400 annual cost burden for all 500 students and $1,500 for all faculty representatives.

Burden Statement: Native American Internship.

Affected Public: University, graduate, and law students applying for the Native American Internship.

Frequency of Response: One time for each applicant.

Estimated Average Annual Respondents: 45 applicants.

Total Annual Hours Burden: Applicants: 360 hours (8 hours × 45 applicants).

Estimated Cost per Student: The Udall Foundation has determined to utilize the federal minimum wage of $10.10/hour as set by Executive Order 13658, February 12, 2014. The Udall Foundation estimates that it takes each applicant approximately eight (8) hours to complete the on-line application.

Annual Cost Burden: $3,636.

Authority: 20 U.S.C. 5601-5609.

Dated: March 16, 2015.
Philip J. Lemanski,
Executive Director, Udall Foundation.

[FR Doc. 2015-06604 Filed 3-20-15; 8:45 am]

BILLING CODE 6820-FN-P